FEDERAL COMMUNICATIONS COMMISSION

Notice of Public Information Collection(s) Being Reviewed by the Federal Communications Commission, Comments Requested

May 15, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 24, 2000. If you anticipate that you will be submitting comments, but find it difficult to do so within the period of time allowed by this notice, you should advise the contact listed below as soon as possible.

ADDRESSES: Direct all comments to Les Smith, Federal Communications Commission, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0920.

Title: Application for Construction Permit for a Low Power FM Broadcast Station.

Form Number: FCC 318.

Type of Review: Extension of currently approved collection.

Respondents: Not-for-profit institutions; state, local or tribal government.

Number of Respondents: 2,500.

Estimated Time per Response: 1 hour 30 minutes.

Frequency of Response: Reporting, on occasion.

Total Annual Burden: 3,750.

Total Annual Costs: $0.

Needs and Uses: FCC Form 318 is required to apply for a construction permit for a new LPFM station or to make changes in the existing facilities of such a station. The data is used by FCC staff to determine whether an applicant meets basic statutory and regulatory requirements to become a Commission licensee and to ensure that the public interest would be served by grant of the application.

OMB Control Number: 3060-0855.

Title: Telecommunications Reporting Worksheet and Associated Requirements, CC Docket No. 98-171.

Form Number: FCC Form 499.

Type of Review: Extension.

Respondents: Business or other for profit.

Number of Respondents: 5500.

Estimated Time Per Response: 7.2 Hours (avg.).

Total Annual Burden: 40,000 Hours.

Estimated Annual Reporting and Recordkeeping Cost Burden: $0.

Frequency of Response: Annual; semi-annual.

Needs and Uses: Pursuant to the Communications Act of 1934, as amended, telecommunications carriers (and certain other providers of telecommunications services) must contribute to the support and cost recovery mechanisms for telecommunications relay services, numbering administration, number portability, and universal service. All contributors to the federal universal service support mechanisms must file the Telecommunications Reporting Worksheet, FCC Form 499. The information is used to calculate carriers' contributions.

OMB Control Number: 3060-0816.

Title: Local Competition and Broadband Report, CC Docket No. 99-301.

Form Number: FCC Form 477.

Type of Review: Extension.

Respondents: Business or other for profit.

Number of Respondents: 510.

Estimated Time Per Response: 58.67 Hours (avg.).

Total Annual Burden: 29,924 Hours.

Estimated Annual Reporting and Recordkeeping Cost Burden: $0.

Frequency of Response: Semi-annually.

Needs and Uses: FCC Form 477 seeks to gather information on the development of local competition and deployment of broadband service also known as advanced telecommunications services. The data is necessary to evaluate the status of developing competition in local exchange telecommunications markets and to evaluate the status of broadband deployment. The information will be used by the Commission staff to advise the Commission about the efficacy of Commission rules and policies adopted to implement the Telecommunications Act of 1996.

OMB Control Number: 3060-0292.

Title: Part 69—Access Charges.

Form Number: N/A.

Type of Review: Extension.

Respondents: Business or other for profit.

Number of Respondents: 1458.

Estimated Time Per Response: 23.19 Hours.

Total Annual Burden: 33,825 Hours.

Estimated Annual Reporting and Recordkeeping Cost Burden: $0

Frequency of Response: On occasion; semi-annually; one-time reporting; recordkeeping.

Needs and Uses: Part 69 of the Commission's rules and regulations establishes the rules for access charges for interstate or foreign access provided by telephone companies. Local telephone companies and states are required to submit information to the Commission and/or the National Exchange Carrier Association. The information is used to complete charges in tariffs for access service (or origination and termination) and to computer revenue pool distributions.

OMB Control Number: 3060-0298.

Title: Tariffs (Other Than Tariff Review Plan)—Part 61.

Form Number: N/A.

Type of Review: Extension.

Respondents: Business or other for profit.

Number of Respondents: 2000.

Estimated Time Per Response: 341.2 Hours (avg.).

Total Annual Burden: 682,555 Hours.

Estimated Annual Reporting and Recordkeeping Cost Burden: $0.

Frequency of Response: On occasion; annual; biennially; Third Party Disclosure.

Needs and Uses: Part 61 is designed to ensure that all tariffs filed by common carriers are formally sound, well organized, and provide the Commission and the public with sufficient information to determine the justness and reasonableness as required by the Communications Act of 1934, as amended, of the rates, terms and conditions in those tariffs.

OMB Control Number: 3060-0804.

Title: Universal Service—Health Care Providers Universal Service Program.

Form Number: FCC Forms 465, 466, 466-A, 467, 468.

Type of Review: Extension.

Respondents: Business or other for profits; not for profit institutions.

Number of Respondents: 5255.

Estimated Time Per Response: 1.8 Hours (avg.).

Total Annual Burden: 9755 Hours.

Estimated Annual Reporting and Recordkeeping Cost Burden: $0.

Frequency of Response: On occasion; recordkeeping.

Needs and Uses: The Commission adopted rules providing support for all telecommunications services, Internet access, and internal connections for all eligible health care providers. Health care providers who want to participate in the universal service program must file several forms, including FCC Forms 465, 466, 466-A, 467 and 468. The information reported is used to ensure that universal service support is distributed to telecommunications carriers serving eligible health care providers pursuant to 47 CFR part 54.

OMB Control Number: 3060-0511.

Title: ARMIS Access Report.

Form Number: FCC Report 43-04.

Type of Review: Extension.

Respondents: Business or other for profit.

Number of Respondents: 150.

Estimated Time Per Response: 621 Hours.

Total Annual Burden: 93,150 Hours.

Estimated Annual Reporting and Recordkeeping Cost Burden: $0.

Frequency of Response: Annual.

Needs and Uses: The Access Report is needed to administer the results of the FCC's jurisdictional separations and access charge procedures in order to analyze revenue requirements, joint cost allocations, jurisdictional separations and access charges.

OMB Control Number: 3060-0512.

Title: The ARMIS Annual Summary Report.

Form Number: FCC Report 43-01.

Type of Review: Extension.

Respondents: Business or other for profit.

Number of Respondents: 150.

Estimated Time Per Response: 135 Hours.

Total Annual Burden: 20,250 Hours.

Estimated Annual Reporting and Recordkeeping Cost Burden: $0.

Frequency of Response: Annual.

Needs and Uses: The ARMIS Annual Summary Report contains financial and operating data and is used to monitor the incumbent local exchange carriers and to perform routine analyses of costs and revenues on behalf of the Commission.

OMB Control Number: 3060-0513.

Title: ARMIS Joint Cost Report.

Form Number: FCC Report 43-03.

Type of Review: Extension.

Respondents: Business or other for profit.

Number of Respondents: 150.

Estimated Time Per Response: 83 Hours.

Total Annual Burden: 12,450 Hours.

Estimated Annual Reporting and Recordkeeping Cost Burden: $0.

Frequency of Response: Annual.

Needs and Uses: The Joint Cost Report is needed to administer our Part 64 joint cost rules and to analyze the regulated and nonregulated cost and revenue allocations by study area in order to prevent cross-subsidization of nonregulated operations by the regulated operations.

Federal Communications Commission.
Magalie Roman Salas,
Secretary.

[FR Doc. 00-13036 Filed 5-23-00; 8:45 am]

BILLING CODE 6712-01-U